FEDERAL COMMUNICATIONS COMMISSION

47 CFR Parts 80

[WT Docket No. 04-257 and RM-10743; FCC 10-6]

Maritime Communications

AGENCY: Federal Communications Commission.

ACTION: Final rule.

SUMMARY: In this document, the Federal Communications Commission (Commission or FCC) furthers its ongoing efforts to ensure that its rules governing the Maritime Radio Services continue to promote maritime safety, maximize effective and efficient use of the spectrum available for maritime communications, accommodate technological innovation, avoid unnecessary regulatory burdens, and maintain consistency with international maritime standards to the extent consistent with the United States public interest.

DATES: Effective April 5, 2010.

FOR FURTHER INFORMATION CONTACT: Stana Kimball, Mobility Division, Wireless Telecommunications Bureau, at Stanislava.Kimball@FCC.gov or at (202) 418-1306, or TTY (202) 418-7233.

SUPPLEMENTARY INFORMATION: This is a summary of the Federal Communications Commission's Memorandum Opinion and Order in WT Docket No. 04-257, FCC 10-6, adopted on January 6, 2010, and released on January 7, 2010. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: http://www.fcc.gov. Alternative formats are available to persons with disabilities by sending an e-mail to fcc504@fcc.gov or by calling the Consumer & Governmental Affairs Bureau at 202-418-0530 (voice), 202-418-0432 (tty).

1. The WT Docket No. 04-257 rulemaking proceeding was established to develop rules to provide to VHF Public Coast (VPC) and Automated Maritime Telecommunications System (AMTS) licensees additional operational flexibility by permitting them to offer private correspondence service to units on land. The Memorandum Opinion and Order (MO&O) in WT Docket No. 04-257 addresses the petitions for reconsideration of the Report and Order in this proceeding, published at 72 FR 31192, June 6, 2007. In the MO&O in WT Docket No. 04-257, the Commission amends § 80.385(a)(1) of the its rules by eliminating the words “interconnected” and “integrated.” This action is consistent with the identical amendments to §§ 80.5 and 80.475(d) made in the Report and Order in this proceeding.

I. Procedural Matters

A. Paperwork Reduction Act

2. This document does not contain proposed information collection(s) subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

List of Subjects in 47 CFR Part 80

Communications equipment, Radio.

Federal Communications Commission.
Gloria J. Miles,
Federal Register Liaison.

Rule Changes

For the reasons discussed in the preamble, the Federal Communications Commission amends 47 CFR part 80 as follows:

PART 80—STATIONS IN THE MARITIME SERVICES

1. The authority citation for part 80 continues to read as follows:

Authority: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

2. Amend § 80.385 by revising paragraph (a)(1) to read as follows:

§ 80.385 Frequencies for automated systems.

* * * * *

(a) * * *

(1) The Automatic Maritime Communications System (AMTS) is an automatic maritime telecommunications system.

* * * * *

[FR Doc. 2010-2095 Filed 2-1-10; 8:45 am]

BILLING CODE 6712-01-P